DEPARTMENT OF THE INTERIOR

Bureau of Land Management

[OR-065784, LLOPRP0600 L51010000.ER0000 LVRWH09H0600; HAG 10-0338]

Notice of Availability of the Record of Decision for the West Butte Wind Power Right-of-Way, Crook and Deschutes Counties, OR

AGENCY: Bureau of Land Management, Interior.

ACTION: Notice of availability.

SUMMARY: The Bureau of Land Management (BLM) announces the availability of the Record of Decision (ROD) for the project located in the Prineville District. The Secretary of the Interior approved the ROD on July 14, 2011, which constitutes the final decision of the Department of the Interior.

ADDRESSES: Copies of the ROD are available upon request from the District Manager, Prineville District Office, Bureau of Land Management, 3050 NE., 3rd Street, Prineville, Oregon 97754 or via the following Web site: http://www.blm.gov/or/districts/prineville/plans/wbw_power_row/.

FOR FURTHER INFORMATION CONTACT: Steve Storo, BLM West Butte Wind Power Right-of-Way Project Lead: telephone (541) 416-6885; address 3050 NE., 3rd Street, Prineville, Oregon 97754; e-mail: sstoro@blm.gov.

SUPPLEMENTARY INFORMATION: The applicant, West Butte Wind Power, LLC, filed right-of-way (ROW) application OR-065784 to construct 4.5 miles of road and an adjacent power transmission line on public land to support the construction of up to 52 wind turbines and ancillary facilities on adjacent private land. The portion of the project on public lands is the “Proposed Action.” Actions occurring on private land are called “connected actions.” The project is 25 air miles southeast of Bend, Oregon, located on the north side of US Highway 20.

The BLM has selected the preferred alternative. The BLM preferred alternative would result in the granting of a 4.5 mile ROW for construction and operation of an access road and transmission line across lands administered by the BLM. Consideration of this alternative includes an analysis of the connected action of West Butte Wind Power constructing and operating a wind farm and associated facilities (e.g., access road, transmission line, substation, and an operations and maintenance building) on privately held lands.

The Notice of Availability of the Final Environmental Impact Statement (EIS) was published in the Federal Register on October 1, 2010 (75 FR 60804). Publication of the Notice of Availability for the Final EIS initiated a 30-day review period on the Final EIS. The BLM received seven letters during this period that ended on November 1, 2010, and three more letters shortly after period ended. The BLM analyzed these letters to determine if they contained substantive comments that were not already addressed in the responses to public comments received on the Draft EIS or that addressed a need for changes between the Draft and Final EIS. No significant new information was presented in the letters that would require reissuance of the Draft or Final EIS . The U.S. Fish and Wildlife Service confirmed that an Avian and Bat Protection Plan (ABPP) has been developed for the project and that the project applicant has cooperated with the Service to address golden eagle issues within the ABPP.

Because this decision is approved by the Secretary of the Interior, it is not subject to administrative appeal (43 CFR 4.410(a)(3)).

Authority: 40 CFR 1506.6 and 1506.10.

Mike Pool,
Deputy Director, Operations, Bureau of Land Management.

[FR Doc. 2011-18275 Filed 7-19-11; 8:45 am]

BILLING CODE 4310-33-P